DEPARTMENT OF AGRICULTURE

Forest Service

Columbia County Resource Advisory Committee (RAC)

AGENCY: Forest Service, USDA.

ACTION: Notice of meeting.

SUMMARY: Pursuant to the authorities in the Federal Advisory Committees Act (Pub. L. 92-463), the Columbia County Resource Advisory Committee (RAC) will meet on November 4, 2002 in Dayton, Washington. The purpose of the meeting is to discuss future RAC actions including the consideration of possible Title II projects under Public Law 106-393, H.R. 2389, the Secure Rural Schools and Community Self-Determination Act of 2000, also called the “Payments to States”Act.

DATES: The meeting will be held on November 4, 2002 from 6 p.m. to 8 p.m.

ADDRESSES: The meeting will be held at the U.S. Post Office, 202 S. 2nd St., Dayton, Washington.

FOR FURTHER INFORMATION CONTACT: Monte Fujishin, Designated Federal Official, USDA, Umatilla National Forest, Pomeroy Ranger District, 71 West Main Street, Pomeroy, WA 99347. Phone: (509) 843-1891.

SUPPLEMENTARY INFORMATION: This meeting will focus on Title II project proposals. The meeting is open to the public. Public input opportunity will be provided and individuals will have the opportunity to address the committee at the time.

Dated: October 30, 2002.
Monte Fujishin,
Designated Federal Official.

[FR Doc. 02-28137 Filed 11-5-02; 8:45 am]

BILLING CODE 3410-11-M